DEPARTMENT OF ENERGY

Federal Energy Regulatory Commission

[Docket No. CP05-396-000]

Sabine Pass LNG, LP; Notice of Availability of the Environmental Assessment for the Proposed Sabine Pass LNG Terminal Phase II Project

May 5, 2006.

The staff of the Federal Energy Regulatory Commission (Commission or FERC) has prepared an environmental assessment (EA) on the liquefied natural gas (LNG) facilities proposed by Sabine Pass LNG, L.P. (SPLNG) in the above-referenced docket. The Sabine Pass LNG Terminal Phase II Project (Project) would be located in Cameron Parish, Louisiana.

The EA was prepared to satisfy the requirements of the National Environmental Policy Act. The staff concludes that approval of the proposed Project, with appropriate mitigating measures, would not constitute a major Federal action significantly affecting the quality of the human environment. This EA evaluates alternatives to the proposal, including system alternatives and site layout alternatives for the LNG import terminal, impact of Ambient Air Vaporizers, and air emissions.

The U.S. Army Corps of Engineers (COE), U.S. Coast Guard (Coast Guard), and U.S. Fish and Wildlife Service (FWS) have all participated as cooperating agencies in the preparation of the EA.

The EA assesses the potential environmental effects of the construction and operation of the following facilities:

• Sixteen (16) ambient air vaporization trains (AAV Trains), one of which would be installed significantly before the others as a pilot AAV Train for testing purposes;

• Eight (8) SCV Trains;

• One (1) pilot AAV Train;

• Three (3) LNG storage tanks;

• Two (2) LNG transfer lines;

• Two (2) BOG compressors;

• Two (2) BOG condensing systems;

• Four (4) shell and tube heat exchangers;

• Two (2) vapor return blowers;

• One (1) simple cycle gas turbine generator; and

• Two (2) 30-inch natural gas pipelines from the Project process area to new main meters.

The EA has been placed in the public files of the FERC and is available for public inspection at: Federal Energy Regulatory Commission, Public Reference Room, 888 First Street, NE., Room 2A, Washington, DC 20426, (202) 502-8371.

A limited number of copies are available from the FERC's Public Reference Room identified above. In addition, copies of the EA have been mailed to Federal, state, and local government agencies; elected officials; Native American tribes; local libraries and newspapers; intervenors in the FERC's proceeding; individuals who provided scoping comments; and affected landowners and individuals.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First Street, NE., Room 1A, Washington, DC 20426;

• Label one copy of the comments for the attention of the Gas Branch 2, PJ11.2;

• Reference Docket No. CP05-396-000; and

• Mail your comments so that they will be received in Washington, DC on or before June 5, 2006.

The Commission strongly encourages electronic filing of any comments or interventions or protests to this proceeding. See 18 CFR 385.2001(a)(1)(iii) and the instructions on the Commission's Web site at http://www.ferc.gov under the “e-Filing” link and the link to the User's Guide. Before you can file comments, you will need to create a free account, which can be created by clicking on “Sign-up.”

Additional information about the Project is available from the Commission's Office of External Affairs, at 1-866-208-FERC (3372) or on the FERC Internet Web site using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link also provides access to the texts of the formal documents issued by the Commission, such as orders, notices, and rulemakings.

In addition, the Commission now offers a free service call eSubscription, which allows you to keep track of all formal issuances and submittals in specific dockets. This can reduce the amount of time you spend researching proceedings by automatically providing you with notification of these filings, document summaries, and direct links to the documents. Go to http://www.ferc.gov/esubscribenow.htm.

Magalie R. Salas,
Secretary.

[FR Doc. E6-7192 Filed 5-10-06; 8:45 am]

BILLING CODE 6717-01-P